DEPARTMENT OF COMMERCE

National Oceanic and Atmospheric Administration

Hydrographic Services Review Panel Meeting

AGENCY: National Ocean Service, National Oceanic and Atmospheric Administration (NOAA), Department of Commerce.

ACTION: Notice of open meeting.

SUMMARY: The Hydrographic Services Review Panel (HSRP) is a Federal Advisory Committee established to advise the Under Secretary of Commerce for Oceans and Atmosphere, the NOAA Administrator, on matters related to the responsibilities and authorities set forth in section 303 of the Hydrographic Services Improvement Act of 1998, as amended, and such other appropriate matters that the Under Secretary refers to the Panel for review and advice.

Date and Time: The public meeting will be held from April 8-10, 2015. April 8th from 8:30 a.m. to 12 noon PST; April 9 from 8:30 a.m. to 6:00 p.m. PST; and April 10th from 8:30 a.m. to 3:30 p.m.

Location: Long Beach, California, with the exact meeting location to be determined and posted online. Please refer to the following Web site for updates on the location, agenda, presentations, speaker's biographies, the webinar, and public comments: http://www.nauticalcharts.noaa.gov/ocs/hsrp/meetings.htm.

FOR FURTHER INFORMATION CONTACT: Visit the NOAA HSRP Web site at http://nauticalcharts.noaa.gov/ocs/hsrp/hsrp.htm, or contact Lynne Mersfelder-Lewis, HSRP Coordinator, National Ocean Service (NOS), Office of Coast Survey, NOAA (N/CS), 1315 East West Highway, Silver Spring, Maryland 20910; Telephone: 301-713-2702 ext. 199; Fax: 301-713-4019; Email: lynne.mersfelder@noaa.gov.

SUPPLEMENTARY INFORMATION: The meeting will be open to the public and public comment periods (on-site) will be scheduled at various times throughout the meeting. These comment periods will be included in the final agenda published before April 1, 2015, and posted on the HSRP Web site listed above. Each individual or group making verbal comments will be limited to a total time of five (5) minutes. Comments will be recorded. Written comments should be submitted in advance to Lynne.Mersfelder@noaa.gov by April 1, 2015. Written comments received after April 1, 2015, will be distributed to the HSRP, but may not be reviewed until the meeting. Public seating will be available on a first-come, first-served basis. Times and agenda topics are subject to change. Refer to the HSRP Web site listed below for exact location and the updated meeting agenda: http://nauticalcharts.noaa.gov/ocs/hsrp/hsrp.htm.

Matters To Be Considered: Regional and local stakeholders will present to the HSRP on issues relevant to NOAA's hydrographic services including: (1) The management, maintenance, interpretation, certification, and dissemination of bathymetric, hydrographic, shoreline, geodetic, geospatial, geomagnetic, and tide, water level, and current information, including the production of nautical charts, nautical information databases, and other products derived from hydrographic data; (2) the development of nautical information systems; and (3) related activities.

Broad topic areas to be discussed will focus on the use and application of NOAA's navigation, observations and positioning data, products, and services (coastal intelligence) to support: (1) The Long Beach—Los Angeles and California marine transportation system; (2) regional efforts to improve shipping efficiencies; (3) the NOAA Precision Navigation project to improve navigation decision support; (4) geospatial data and tools to support local and regional coastal planning and development; (5) other topics submitted by stakeholders.

The HSRP will hold focused breakout sessions to discuss challenges and issues on Thursday, April 9, and Friday, April 10, 2015, on priority topics including: (1) Coastal Intelligence; (2) Coastal Resilience; and (3) Emerging Arctic navigation issues. The public is invited to participate and sign up for these sessions by contacting the HSRP Coordinator, Lynne Mersfelder-Lewis at email: Lynne.Mersfelder@noaa.gov, or NOAA's California Navigation Manager, Jeffrey Ferguson at email: Jeffrey.Ferguson@noaa.gov.

The breakout sessions provide the public with the opportunity to interact with HSRP members on concerns or issues with NOAA's navigation, observations, and positioning data, products, and services, and to present options or recommendations for improvement. The HSRP will consider input from these breakout sessions, and from the other meeting presentations, to develop its recommendations to the NOAA Under Secretary for improving NOAA's suite of navigation, observation and positioning data, products, and services. Other matters to be discussed include activities relating to hydrography, geodesy, coastal mapping, and tides, currents and water levels, as well as administrative matters pertaining to the HSRP.

The HSRP meeting will provide GoToWebinar services and teleconference capability for public access to listen to and observe the meeting presentations. Members of the public who wish to participate virtually must register in advance by April 1, 2015. Webinar service is available during the main sessions and teleconference capability is available during the break-out sessions. The times are subject to change and participants should refer to the HSRP Web site for the most up to date information. To register for virtual access or submit public comments before the virtual sessions begin, please submit requests by no later than April 1, 2015, to Lynne Mersfelder-Lewis at email: Lynne.Mersfelder@noaa.gov.

Dated: February 18, 2015.
Gerd F. Glang,
Director, Office of Coast Survey, National Ocean Service, National Oceanic and Atmospheric Administration.

[FR Doc. 2015-04249 Filed 2-27-15; 8:45 am]

BILLING CODE 3510-JE-P